DEPARTMENT OF HOMELAND SECURITY

Coast Guard

33 CFR Part 165

[Docket No. USCG-2011-0505]

Security Zone; 2011 Seattle Seafair Fleet Week Moving Vessels, Puget Sound, WA; Correction

AGENCY: Coast Guard, DHS.

ACTION: Temporary final rule; correction.

SUMMARY: On July 11, 2011 the Coast Guard published a temporary final rule in the Federal Register (76 FR 40617), establishing temporary security zones around visiting foreign and domestic military vessels that are participating the 2011 Seattle's Seafair Fleet Week. This document corrects the list of visiting military vessels for which the rule will establish security zones.

DATES: This correction is effective from 8 a.m. on August 3, 2011 through 5 p.m. on August 8, 2011.

FOR FURTHER INFORMATION CONTACT: If you have questions on this correction document, call or e-mail ENS Anthony P. LaBoy, Coast Guard Sector Puget Sound, Waterways Management Division; telephone 206-217-6323, e-mail SectorPugetSoundWWM@uscg.mil.

Correction

In the temporary final rule FR Doc. 2011-17261, beginning on page 40617 in the Federal Register issue of July 11, 2011, make the following corrections:

1. In the SUMMARY section, on page 40617, starting at the bottom of the 2nd column, correct the first sentence of the SUMMARY to read as follows:

The U.S. Coast Guard is establishing temporary security zones around the HMCS WHITEHORSE (NCSM 705), HMCS NANAIMO (NCSM 702), CCGS SIYAY, and the USCGC ALERT (WMEC 630) which include all waters within 500 yards from the vessels while each vessel is participating in the Seafair Fleet Week Parade of Ships and while moored following the parade until departing on August 8, 2011.

2. In the SUPPLEMENTARY INFORMATION section, under the heading of “Discussion of Rule,” in the first column on page 40618, correct the first sentence to read as follows:

The temporary security zones established by this rule will prohibit any person or vessel from entering or remaining within 500 yards of the HMCS WHITEHORSE (NCSM 705), HMCS NANAIMO (NCSM 702), CCGS SIYAY, and the USCGC ALERT (WMEC 630) while these vessels are participating in the Parade of Ships and while moored at Pier 66, Terminal 25, and Terminal 46.

3. In the regulatory text, starting in the second column on page 40619, correct § 165.T13-186 (a) to read as follows:

Location: The following areas are security zones: All waters within the Captain of the Port Puget Sound Zone encompassed within 500 yards of the HMCS WHITEHORSE (NCSM 705), HMCS NANAIMO (NCSM 702), CCGS SIYAY, and the USCGC ALERT (WMEC 630) while each vessel is participating in the Seafair Fleet Week Parade of Ships and while moored at Pier 66, Terminal 25, and Terminal 46, Elliott Bay, Seattle, WA.

Dated: July 27, 2011.
S.J. Ferguson,
Captain, U.S. Coast Guard, Captain of the Port, Puget Sound.

[FR Doc. 2011-19995 Filed 8-5-11; 8:45 am]

BILLING CODE 9110-04-P